ENVIRONMENTAL PROTECTION AGENCY

[ER-FRL-9048-3]

Environmental Impact Statements; Notice of Availability

Responsible Agency: Office of Federal Activities, General Information 202-564-5632 or https://www.epa.gov/nepa/.

Weekly receipt of Environmental Impact Statements

Filed 11/25/2019 10 a.m. ET Through 12/02/2019 10 a.m. ET

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20190285, Draft, USFWS, CA, Draft Environmental Impact Statement/Supplemental Environmental Impact Report for the Proposed Upper Santa Ana River Wash Habitat Conservation Plan, Comment Period Ends: 01/21/2020, Contact: Karin Cleary-Rose 760-322-2070 ext 406

EIS No. 20190286, Final Supplement, BLM, CA, United States Gypsum Company Expansion/Modernization Project, Imperial County, California Final Supplemental Environmental Impact Statement, Review Period Ends: 01/06/2020, Contact: Miriam Liberatore 541-618-2200

EIS No. 20190287, Draft, BR, CO, Paradox Valley Unit of the Colorado River Basin Salinity Control Program Environmental Impact Statement, Comment Period Ends: 02/04/2020, Contact: Lesley McWhirter 970-248-0608

Dated: December 2, 2019.
Robert Tomiak,
Director, Office of Federal Activities.

[FR Doc. 2019-26353 Filed 12-5-19; 8:45 am]

BILLING CODE 6560-50-P